DEPARTMENT OF ENERGY

Federal Energy Regulatory Commission

[Docket No. CP00-452-000]

Colorado Interstate Gas Company; Notice of Site Visit

November 21, 2000.

On November 30 and December 1, 2000, the staff of the Office of Energy Projects (OEP) will be conducting an inspection of Colorado Interstate Gas Company's (CIG) Raton Basin Expansion Project in Baca and Las Animas Counties, Colorado; Cimarron, Texas, and Beaver Counties, Oklahoma; and Morton County, Kansas. The site visit will start at 7:30 am on Thursday at the Ambassador Inn at Guymon, Oklahoma and follow the proposed route west. Sites to be visited include the Cimarron River crossings, the Santa Fe Trail crossing, the Cimarron National Grasslands, the proposed Kim Compressor Station, the Keyes Compressor Station, and possibly other locations. The site visit on Friday will start at 8 am at the proposed Trinidad Compressor Station site located off of U.S. Highway 160/350. Representatives of CIG will accompany the OEP staff.

All interested parties may attend, although those planning to attend must provide their own transportation.

For further information, please contact Laura Turner of the Commission's Office of Energy Projects at (202) 208-0916.

David P. Boergers,
Secretary.

[FR Doc. 00-30201 Filed 11-27-00; 8:45 am]

BILLING CODE 6717-01-M